DEPARTMENT OF COMMERCE

International Trade Administration

Antidumping Proceedings: Treatment of Section 201 Duties and Countervailing Duties

AGENCY: Import Administration, International Trade Administration, Department of Commerce.

ACTION: Request for public comments.

SUMMARY: The Department of Commerce is requesting comments on the appropriateness of deducting section 201 duties and countervailing duties from gross unit price in order to determine the applicable export price or constructed export price used in antidumping duty calculations.

DATES: To be assured consideration, initial comments must be received no later than thirty days from the date of publication of this notice. Rebuttal comments must be received no later than forty-five days from the date of publication of this notice.

ADDRESSES: Submit comments to James J. Jochum, Assistant Secretary for Import Administration, U.S. Department of Commerce, Central Records Unit, Room 1870, Pennsylvania Avenue and 14th Street, NW., Washington, DC 20230; Attention: Section 201 Duties.

FOR FURTHER INFORMATION CONTACT: Becky Erkul, Office of Policy, Import Administration, International Trade Administration, U.S. Department of Commerce, at (202) 482-1277.

Background

Several parties have advocated that the Department deduct countervailing duties, as well as duties imposed under section 201 of the Trade Act of 1974 (section 201 duties), from export price (EP) and constructed export price (CEP) in calculations of dumping margins pursuant to sections 772(c)(2)(A) and 772(d) of the Tariff Act of 1930, as amended (the Act).

Section 772(c)(2)(A) of the Act requires that the Department deduct from EP and CEP any United States import duties included in the price. This statutory deduction existed prior to the passage of the Uruguay Round Agreements Act (URAA), and the URAA did not modify it in any respect. In addition, section 772(d) of the Act requires the Department to deduct U.S. selling expenses from CEP. Once again, there was a similar statutory deduction for U.S. selling expenses under the pre-URAA antidumping law.

The Department is seeking comments on the appropriate treatment of section 201 duties and countervailing duties under these provisions in antidumping duty calculations.

Comments—Deadline, Format, and Number of Copies

Parties wishing to comment should file a signed original and six copies of each set of initial and rebuttal comments. All comments will be available for public inspection and photocopying in the Import Administration's Central Records Unit, Room B-099, between the hours of 8:30 a.m. and 5 p.m. on business days. Each person submitting a comment should include the commenter's name and address, and give reasons for any recommendations. In order to ensure timely and complete distribution of comments, the Department recommends the submission of initial and rebuttal comments in electronic form to accompany the required paper copies. Comments filed in electronic form should be submitted on a DOS formatted 3.5″ diskette, Iomega Zip disk, or Compact Disc (CD-R or CD-RW).

Comments received in electronic form will be made available to the public in Portable Document Format (PDF) on the Internet at the IA Web site at the following address: http://ia.ita.doc.gov/.

Any questions concerning file formatting, document conversion, access on the Internet, or other electronic filing issues should be addressed to Andrew Lee Beller, Import Administration Webmaster, at (202) 482-0866, e-mail address webmaster_support@ita.doc.gov.

Hearing

After reviewing all comments and rebuttal comments, the Department will determine if a public hearing is warranted, and, if so, will announce a place and time for that hearing.

Dated: September 3, 2003.
James J. Jochum,
Assistant Secretary for Import Administration.

[FR Doc. 03-22946 Filed 9-8-03; 8:45 am]

BILLING CODE 3510-DS-P